DEPARTMENT OF HEALTH AND HUMAN SERVICES

Centers for Disease Control and Prevention

ACTION: Publication of closed meeting summary of the Advisory Board on Radiation and Worker Health (ABRWH), National Institute for Occupational Safety and Health (NIOSH).

Committee Purpose: This board is charged with (a) providing advice to the Secretary, HHS on the development of guidelines under Executive Order 13179; (b) providing advice to the Secretary, HHS on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Background: The Advisory Board on Radiation and Worker Health met on December 13, 2004, in closed session to discuss Individual Case Dose Reconstruction Reviews. The discussion involved individual dose reconstruction case reviews. The individual cases the ABRWH discussed included personal information of a confidential nature where disclosure would constitute a clearly unwarranted invasion of personal privacy and, therefore, could not be disclosed. A Determination to Close the meeting was approved and published, as required by the Federal Advisory Committee Act.

Summary of the Meeting: Attendance was as follows:

Board Members:

Paul L. Ziemer, Ph.D., Chair.

Lew Wade, Ph.D., Executive Secretary (Pro Tem).

Antonio Andrade, Ph.D., Member.

Roy L. DeHart, M.D., M.P.H., Member.

Richard L. Espinosa, Member.

Michael H. Gibson, Member.

Mark A. Griffon, Member.

James M. Melius, M.D., Dr.P.H., Member.

Wanda I. Munn, Member.

Charles L. Owens, Member.

Robert W. Presley, Member.

Genevieve S. Roessler, Ph.D., Member.

NIOSH Staff:

Fred Blosser, Cori Homer, Stu Hinnefeld, Liz Homoki-Titus, Ted Katz, Rob McGolerick, Jim Neton, and Diane Porter.

DOL Staff:

Shelby Hallmark, Jeff Kotsch, Jeff Nesvet, and Pete Turcic.

GAO Staff:

Mary Nugent.

SC&A Staff:

Hans Behling, Joe Fitzgerald, John Mauro.

Ray S. Green, Court Recorder.

Summary/Minutes

Dr. Ziemer called to order the Advisory Board on Radiation and Worker Health (ABRWH) in closed session on December 13, 2004 at 1:30 p.m. The purpose of the closed meeting was to discuss the Individual Case Dose Reconstruction Reviews. This action will allow the ABRWH to fulfill its statutory duty to advise the Secretary of Health and Human Services on the scientific validity and quality of dose estimation and reconstruction efforts being performed for purposes of the compensation program under EEOICPA.

General topics discussed:

• Closed session procedures.

• Case reviews presented.

• Prepared motion for consideration by the full Board regarding how to proceed with the 20 cases; the motion was approved by unanimous vote, then shared and discussed in open session by the Board on the following day. Dr. Paul Ziemer adjourned the closed session of the ABRWH meeting at 4:50 p.m. with no further business being conducted by the ABRWH.

Contact Person for More Information: Larry Elliott, Executive Secretary, ABRWH, NIOSH, CDC, 4676 Columbia Parkway, Cincinnati, Ohio 45226, telephone 513/533-6825, fax 513/533-6826.

The Director, Management Analysis and Services Office, has been delegated the authority to sign Federal Register notices pertaining to announcements of meetings and other committee management activities for both CDC and the Agency for Toxic Substances and Disease Registry.

Dated: December 30, 2004.
B. Kathy Skipper,
Acting Director, Management Analysis and Services Office, Centers for Disease Control and Prevention.

[FR Doc. 05-288 Filed 1-5-05; 8:45 am]

BILLING CODE 4163-19-P